DEPARTMENT OF LABOR

Office of Job Corps

Proposed Collection; Comment Request

ACTION: Notice.

SUMMARY: The Department of Labor, as part of its continuing effort to reduce paperwork and respondent burden conducts a preclearance consultation program to provide the general public and Federal agencies with an opportunity to comment on proposed and/or continuing collections of information in accordance with the Paperwork Reduction Act of 1995 (PRA95) [44 U.S.C. 3506(c)(2)(A)]. This program helps to ensure that requested data can be provided in the desired format, reporting burden (time and financial resources) is minimized, collection instruments are clearly understood, and the impact of collection requirements on respondents can be properly assessed. Currently, the Office of Job Corps is soliciting comments concerning the proposed reinstatement collection of the Job Corps Enrollee Allotment Determination Form.

A copy of the proposed information collection request (ICR) can be obtained by contacting the office listed below in the addressee section of this notice.

DATES: Written comments must be submitted to the office listed in the addressee's section below on or before August 31, 2000.

ADDRESSES: Steven K. Puterbaugh, Room N-4510, U.S. Department of Labor, Employment and Training Administration, Office of Job Corps, 200 Constitution Avenue, NW, Washington, DC 20210. Inquiries can be made of Steven Puterbaugh on telephone number 202-219-6568, FAX# 202-501-5469 or e-mail address Sputerbaugh@doleta.gov.

SUPPLEMENTARY INFORMATION:

I. Background

The collection of this information is made necessary to provide a vehicle to make allotments available to students who both want one and have a qualifying dependent.

The main purpose of the form is to obtain information from the enrollee as to the allotee designation and to obtain documentary evidence to support the enrollee's claim for qualification for the allotment. It is completed by either the Job Corps screener or the Center Director's staff. It is done by personal interview. This is a basic operating document, required by the Department of Labor to initiate an allotment.

II. Review Focus

The Department of Labor is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submissions of responses.

III. Current Actions

There is a continuing need to collect this information from respondents in order to make allotments available to new students and to make changes to existing allotments that current students have in place.

The Department of Labor handles all student payments. If this information was not collected, ETA could not comply with the regulations and the students could not receive an allotment. This is a basic source document initiating the allotment eligibility and payment process. The information obtained and displayed on this document is not readily obtainable elsewhere.

Type of Review: Reinstatement.

Agency: Employment and Training Administration.

Title: Job Corps Enrollee Allotment Determination.

OMB Number: 1205-0030.

Agency Number: ETA 658.

Affected Public: Individuals or households; Federal agencies or employees.

Total Respondents: 7,500.

Frequency: On occasion.

Total Responses: 7,500.

Average Time per Response: 12 minutes.

Estimated Total Burden Hours: 1,500.

Total Burden Cost (operating/maintaining): $10,000.

Comments submitted in response to this comment request will be summarized and/or included in the request for Office of Management and Budget approval of the information collection request; they will also become a matter of public record.

Dated: July 17, 2000.
Richard C. Trigg,
National Director, Job Corps.

[FR Doc. 00-18606 Filed 7-21-00; 8:45 am]

BILLING CODE 4510-30-M